DEPARTMENT OF COMMERCE

National Oceanic and Atmospheric Administration

[I.D. 102105C]

New England Fishery Management Council; Public Meeting

AGENCY: National Marine Fisheries Service (NMFS), National Oceanic and Atmospheric Administration (NOAA), Commerce.

ACTION: Notice; committee meeting.

SUMMARY: The New England Fishery Management Council's (Council) Habitat/Marine Protected Area (MPA) Oversight Committee will meet to consider actions affecting New England fisheries in the exclusive economic zone (EEZ).

DATES: The meeting will be held on Monday, November 14, 2005, from 9:30 a.m. to 5 p.m.

ADDRESSES: The meeting will be held at the Holiday Inn, 31 Hampshire Street, Mansfield, MA 02048; telephone: (508)339-2200.

Council address: New England Fishery Management Council, 50 Water Street, Mill 2, Newburyport, MA 01950.

FOR FURTHER INFORMATION CONTACT: Paul J. Howard, Executive Director, New England Fishery Management Council; telephone: (978)465-0492.

SUPPLEMENTARY INFORMATION: The items of discussion in the committee's agenda are as follows:

1. The Committee will continue work on elements of the Essential Fish Habitat (EFH) Omnibus Amendment 2 including, but not limited to, consideration of Advisory Panel gear descriptions; review and refinement of EFH designations; consideration of Habitat Areas of Particular Concern and review and consideration of comments received on modified notice of intent.

2. The Committee may review the Ecosystem Workshop results.

3. The Committee will be briefed on the proposed non-fishing projects that may adversely effect EFH.

4. The Committee may consider other topics at their discretion.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Dated: October 21, 2005.
Emily Menashes,
Acting Director, Office of Sustainable Fisheries, National Marine Fisheries Service.

[FR Doc. E5-5960 Filed 10-26-05; 8:45 am]

BILLING CODE 3510-22-S